Title 3—

The President

Proclamation 9956 of October 31, 2019

Critical Infrastructure Security and Resilience Month, 2019

By the President of the United States of America

A Proclamation

Our Nation's infrastructure is critical to supporting our economy, national security, and way of life. We live in an increasingly interconnected world, where our infrastructure networks—from power grids to communication platforms—take on an added degree of importance in the day-to-day lives of every American. During Critical Infrastructure Security and Resilience Month, we recognize that securing and enhancing the resilience of our infrastructure plays an important role in keeping our Nation safe and fueling our economy. That is why my Administration is persistently investing in resilient infrastructure systems and networks that alleviate risks, thwart attacks, and minimize disruptions to the productivity and well-being of our citizens.

When our infrastructure is threatened, our physical and economic security comes under duress as the systems that provide us with essentials like food, clean water, electricity, healthcare, and communication are placed in jeopardy. America's infrastructure relies on an interdependent environment in which cyber and physical systems converge. A disruption in one area can quickly impact multiple infrastructure sectors to create disruptions across communities, States, and the Nation. The threats we face today—human-made, technological, and natural—are more complex and more diverse than at any point in our history. Determined international adversaries and malign actors continue to target America's infrastructure networks, and severe weather and natural disasters present frequent hazards.

In response to these threats, my Administration has remained committed to strategic investments to secure and enhance the resilience of our infrastructure. In March, I issued an Executive Order on Coordinating National Resilience to Electromagnetic Pulses, and my Administration released the National Space Weather Strategy and Action Plan. Together, these measures enable us to anticipate and adapt to the risks posed by electromagnetic threats while seeking to identify the fundamental infrastructure systems, assets, and networks that protect the American people, the homeland, and the American way of life. These measures also help us promote American prosperity, preserve peace through strength, and advance American influence. To guarantee our status as the world leader in securing infrastructure and making it more resilient to disruption, I signed legislation in 2018 creating the Cybersecurity and Infrastructure Security Agency (CISA) within the Department of Homeland Security. Along with other partners across governments and private industry, CISA is leading the Federal effort to strengthen our Nation's critical cyber and physical infrastructure and bolster America's ability to construct secure, resilient infrastructure systems for the future.

It is also imperative that foreign strategic competitors do not gain access to our critical supply chain. To fully protect our critical infrastructure, we must secure the process of delivering products, supplies, and materials from supplier to the manufacturer to the customer. We cannot allow our Nation's supply chain to be built and maintained with components from foreign adversaries that may weaken our ability to provide the functions and services upon which Americans depend each day. In May, I issued an Executive Order on Securing the Information and Communications Technology and Services Supply Chain to address concerns about foreign adversaries creating and exploiting vulnerabilities in our information technology and communications networks. These networks are critical to the effective operations of our government and businesses. I encourage owners and operators of those networks to take heightened measures to protect every aspect of their organizations' security and resiliency by maintaining business continuity and emergency management plans, protecting against cyberattacks and insider threats, and reducing vulnerabilities due to natural disasters. Working together, public and private owners and operators of critical infrastructure must continue to take actions to mitigate these threats.

Critical infrastructure owners and operators, local and State governments, and the Federal Government all have critical roles in reducing the risks to our Nation's critical infrastructure. Owners and operators ensure that critical infrastructure is properly run and maintained, while local governments certify that critical infrastructure is sited properly and built to the latest codes and standards. As the States provide oversight for operations, the Federal Government, in turn, must provide support for all of these needs.

While Federal, State, and local governments are doing everything within their power to protect our infrastructure, today's threats also require cooperation from partners in the private sector to ensure maximum security and enhance our resilience. Every American has a role to play in this endeavor, whether it is through investing in technologies to make our systems more resilient, making and exercising preparedness plans, or simply remaining alert and raising concerns to potential threats. This month, we reaffirm our commitment to developing new strategies to address the ever-present and increasingly complex threats facing our Nation's infrastructure, and we pay tribute to the men and women who work diligently to safeguard the United States from any threat.

NOW, THEREFORE, I, DONALD J. TRUMP, President of the United States of America, by virtue of the authority vested in me by the Constitution and the laws of the United States, do hereby proclaim November 2019 as Critical Infrastructure Security and Resilience Month. I call upon the people of the United States to recognize the importance of protecting our Nation's infrastructure and to observe this month with appropriate measures to enhance our national security and resilience.

IN WITNESS WHEREOF, I have hereunto set my hand this thirty-first day of October, in the year of our Lord two thousand nineteen, and of the Independence of the United States of America the two hundred and forty-fourth.

[FR Doc. 2019-24274

Filed 11-4-19; 11:15 am]

Billing code 3295-F0-P